INTERNATIONAL TRADE COMMISSION

[Investigation Nos. 731-TA-865-867 (Second Review)]

Stainless Steel Butt-Weld Pipe Fittings From Italy, Malaysia, and the Philippines; Revised Schedule for the Subject Reviews

AGENCY: United States International Trade Commission.

ACTION: Notice.

DATES: Effective Date: March 21, 2012.

FOR FURTHER INFORMATION CONTACT: Elizabeth Haines (202-205-3200), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov.

SUPPLEMENTARY INFORMATION: On February 6, 2012, the Commission established a schedule for the conduct of the expedited subject five-year reviews (77 FR 10773, February 23, 2012). The Commission is revising its schedule.

The Commission's new schedule for the reviews is as follows: the staff report will be placed in the nonpublic record on May 25, 2012; and, comments are due on or before May 30, 2012.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.62 of the Commission's rules.

By order of the Commission.
Issued: March 21, 2012.
James R. Holbein,
Secretary to the Commission.

[FR Doc. 2012-7286 Filed 3-26-12; 8:45 am]

BILLING CODE 7020-02-P